DEPARTMENT OF LABOR

Employment and Training Administration

[TA-W-42,197]

Georgia-Pacific Corporation Building Product Division Oriented Strand Board Mill Baileyville, Maine; Notice of Termination of Investigation

Pursuant to section 221 of the Trade Act of 1974, an investigation was initiated on September 30, 2002, in response to a petition filed by the Paper, Allied-Industrial, Chemical, and Energy Workers Union, Local 1-1367, on behalf of workers at Georgia-Pacific Corporation, Building Product Division, Oriented Strand Board Mill, Baileyville, Maine.

The petitioner has requested that the petition be withdrawn. Consequently, further investigation in this case would serve no purpose, and the investigation has been terminated.

Signed in Washington, DC this 15th day of October, 2002.
Richard Church,
Certifying Officer, Division of Trade Adjustment Assistance.

[FR Doc. 02-28035 Filed 11-4-02; 8:45 am]

BILLING CODE 4510-30-P